SOCIAL SECURITY ADMINISTRATION

Rate for Attorney Fee Assessment Beginning in 2005

AGENCY: Social Security Administration (SSA).

ACTION: Notice.

SUMMARY: The Social Security Administration is announcing that the attorney-fee assessment percentage rate under section 206(d) of the Social Security Act (the Act), 42 U.S.C. 406(d), is 6.3 percent for 2005.

FOR FURTHER INFORMATION CONTACT: James A. Winn, Associate General Counsel for Program Law, Office of the General Counsel, Social Security Administration, Phone: (410) 965-3137, email jim.winn@ssa.gov.

SUPPLEMENTARY INFORMATION: Section 406 of Public Law No. 106-170, the Ticket to Work and Work Incentives Improvement Act of 1999, established an assessment for the services required to determine and certify payments to attorneys from the benefits due claimants under Title II of the Act. This provision is codified in section 206 of the Act (42 U.S.C. 406). The legislation set the assessment for the calendar year 2000 at 6.3 percent of the amount that would be required to be certified for direct payment to the attorney under section 206(a)(4) or 206(b)(1) before the application of the assessment. For subsequent years, the legislation requires the Commissioner of Social Security to determine the percentage rate necessary to achieve full recovery of the costs of determining and certifying fees to attorneys, but not in excess of 6.3 percent. The Commissioner of Social Security has determined, based on the best available data, that the current rate of 6.3 percent will continue for 2005. During the calendar year 2005, we will begin directly paying fees to attorneys in cases under Title XVI of the Act and to eligible non-attorney representatives in cases under Title II and/or Title XVI of the Act, as provided in sections 302 and 303 of Public Law No. 108-203, the Social Security Protection Act of 2004. Once these new programs begin, we will use the 6.3 percent rate announced in this notice when calculating assessments on direct payments made under these new statutory provisions during the calendar year 2005.

We will continue to review our costs on a yearly basis.

Dated: December 17, 2004.
Dale W. Sopper,
Deputy Commissioner for Finance, Assessment and Management.

[FR Doc. 04-28172 Filed 12-23-04; 8:45 am]

BILLING CODE 4191-02-P